COMMITTEE FOR THE IMPLEMENTATION OF TEXTILE AGREEMENTS

Announcement of Import Limits for Certain Cotton, Wool, Man-Made Fiber, Silk Blend and Other Vegetable Fiber Textiles and Textile Products Produced or Manufactured in Taiwan

December 26, 2000.

AGENCY: Committee for the Implementation of Textile Agreements (CITA).

ACTION: Issuing a directive to the Commissioner of Customs establishing limits.

EFFECTIVE DATE: January 1, 2001.

FOR FURTHER INFORMATION CONTACT: Roy Unger, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The Bilateral Textile Agreement, effected by exchange of letters dated January 10, 1997, May 2, 1997 and December 10, 1997, as amended and extended, concerning textiles and textile products, produced or manufactured in Taiwan, establishes limits for the period January 1, 2001 through March 31, 2001.

In the letter published below, the Chairman of CITA directs the Commissioner of Customs to establish limits for the first three months of 2001.

These limits may be revised if Taiwan becomes a member of the World Trade Organization (WTO) and the WTO agreement is applied to Taiwan.

A description of the textile and apparel categories in terms of HTS numbers is available in the CORRELATION: Textile and Apparel Categories with the Harmonized Tariff Schedule of the United States (see Federal Register notice 64 FR 71982, published on December 22, 1999). Information regarding the 2001 CORRELATION will be published in the Federal Register at a later date.

Donald R. Foote,
Acting Chairman, Committee for the Implementation of Textile Agreements.

Committee for the Implementation of Textile Agreements

December 26, 2000.

Commissioner of Customs,

Department of the Treasury, Washington, DC 20229.

Dear Commissioner: Pursuant to section 204 of the Agricultural Act of 1956, as amended (7 U.S.C. 1854); Executive Order 11651 of March 3, 1972, as amended; and the Bilateral Textile Agreement, effected by exchange of letters dated January 10, 1997 and May 2, 1997, as amended and extended, between the Governments of the United States and Taiwan, you are directed to prohibit, effective on January 1, 2001, entry into the United States for consumption and withdrawal from warehouse for consumption of cotton, wool, man-made fiber, silk blend and other vegetable fiber textiles and textile products in the following categories, produced or manufactured in Taiwan and exported during the three-month period which begins on January 1, 2001 and extends through March 31, 2001, in excess of the following levels of restraint:

Category | Twelve-month limit
Group I
200-224, 225/317/326, 226, 227, 229, 300/301/607, 313-315, 360-363, 369-L/670-L/870 ¹, 369-S ², 369-O ³, 400-414, 464-469, 600-606, 611, 613/614/615/617, 618, 619/620, 621-624, 625/626/627/628/629, 665, 666, 669-P ⁴, 669-T ⁵, 669-O ⁶, 670-H ⁷ and 670-O ⁸, as a group | 145,584,324 square meters equivalent.
Sublevels in Group I
218 | 5,611,493 square meters.
225/317/326 | 9,960,385 square meters.
226 | 1,807,492 square meters.
300/301/607 | 435,688 kilograms of which not more than 363,074 kilograms shall be in Category 300; not more than 363,074 kilograms shall be in Category 301; and not more than 363,074 kilograms shall be in Category 607.
363 | 3,025,018 numbers.
369-L/670-L/870 | 12,570,241 kilograms.
611 | 808,836 square meters.
613/614/615/617 | 5,016,320 square meters.
619/620 | 3,687,073 square meters.
625/626/627/628/629 | 4,797,753 square meters.
669-P | 87,221 kilograms.
669-T | 283,488 kilograms.
670-H | 4,813,482 kilograms.
Group I subgroup
200, 219, 313, 314, 315, 361, 369-S and 604, as a group | 37,024,512 square meters equivalent.
Within Group I subgroup
200 | 181,318 kilograms.
219 | 4,126,617 square meters.
313 | 16,765,276 square meters.
314 | 7,350,600 square meters.
315 | 5,632,433 square meters.
361 | 364,228 numbers.
369-S | 120,833 kilograms.
604 | 58,141 kilograms.
Group II
237, 239, 330-332, 333/334/335, 336, 338/339, 340-345, 347/348, 349, 350/650, 351, 352/652, 353, 354, 359-C/659-C ⁹, 359-H/659-H ¹⁰, 359-O ¹¹, 431-444, 445/446, 447/448, 459, 630-632, 633/634/635, 636, 638/639, 640, 641-644, 645/646, 647/648, 649, 651, 653, 654, 659-S ¹², 659-O ¹³, 831-844 and 846-859, as a group | 186,167,900 square meters equivalent.
Sublevels in Group II
237 | 177,150 dozen.
239 | 1,452,293 kilograms.
331 | 126,955 dozen pairs.
336 | 30,181 dozen.
338/339 | 201,949 dozen.
340 | 276,730 dozen.
345 | 31,536 dozen.
347/348 | 262,591 dozen of which not more than 262,591 dozen shall be in Categories 347-W/348-W ¹⁴.
352/652 | 800,742 dozen.
359-C/659-C | 356,957 kilograms.
359-H/659-H | 1,200,281 kilograms.
433 | 3,833 dozen.
434 | 2,662 dozen.
435 | 6,321 dozen.
436 | 1,259 dozen.
438 | 7,103 dozen.
440 | 1,376 dozen.
442 | 10,807 dozen.
443 | 10,733 numbers.
444 | 15,286 numbers.
445/446 | 33,895 dozen.
631 | 1,273,773 dozen pairs.
633/634/635 | 403,020 dozen of which not more than 236,548 dozen shall be in Categories 633/634 and not more than 209,612 dozen shall be in Category 635.
638/639 | 1,618,812 dozen.
640 | 261,106 dozen of which not more than 69,464 dozen shall be in Category 640-Y ¹⁵.
642 | 191,625 dozen.
643 | 127,725 numbers.
644 | 192,181 numbers.
645/646 | 1,012,874 dozen.
647/648 | 1,294,186 dozen of which not more than 1,294,186 dozen shall be in Categories 647-W/648-W ¹⁶.
659-S | 394,948 kilograms.
835 | 5,051 dozen.
Group II Subgroup
333/334/335, 341, 342, 350/650, 351, 447/448, 636, 641 and 651, as a group | 19,283,249 square meters equivalent.
Within Group II Subgroup
333/334/335 | 77,648 dozen of which not more than 42,059 dozen shall be in Category 335.
341 | 84,658 dozen.
342 | 52,886 dozen.
350/650 | 34,388 dozen.
351 | 87,985 dozen.
447/448 | 5,238 dozen.
636 | 96,468 dozen.
641 | 180,630 dozen of which not more than 63,221 dozen shall be in Category 641-Y ¹⁷.
651 | 110,339 dozen.
Group III
Sublevel in Group III
845 | 210,522 dozen.
¹ Category 870; Category 369-L: only HTS numbers 4202.12.4000, 4202.12.8020, 4202.12.8060, 4202.92.1500, 4202.92.3016, 4202.92.6091 and 6307.90.9905; Category 670-L: only HTS numbers 4202.12.8030, 4202.12.8070, 4202.92.3020, 4202.92.3031, 4202.92.9026 and 6307.90.9907.
² Category 369-S: only HTS number 6307.10.2005.
³ Category 369-O: all HTS numbers except 4202.12.4000, 4202.12.8020, 4202.12.8060, 4202.92.1500, 4202.92.3016, 4202.92.6091, 6307.90.9905 (Category 369-L); and 6307.10.2005 (Category 369-S).
⁴ Category 669-P: only HTS numbers 6305.32.0010, 6305.32.0020, 6305.33.0010, 6305.33.0020 and 6305.39.0000.
⁵ Category 669-T: only HTS numbers 6306.12.0000, 6306.19.0010 and 6306.22.9030.
⁶ Category 669-O: all HTS numbers except 6305.32.0010, 6305.32.0020, 6305.33.0010, 6305.33.0020, 6305.39.0000 (Category 669-P); 6306.12.0000, 6306.19.0010 and 6306.22.9030 (Category 669-T).
⁷ Category 670-H: only HTS numbers 4202.22.4030 and 4202.22.8050.
⁸ Category 670-O: all HTS numbers except 4202.22.4030, 4202.22.8050 (Category 670-H); 4202.12.8030, 4202.12.8070, 4202.92.3020, 4202.92.3031, 4202.92.9026 and 6307.90.9907 (Category 670-L).
⁹ Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.
¹⁰ Category 359-H: only HTS numbers 6505.90.1540 and 6505.90.2060; Category 659-H: only HTS numbers 6502.00.9030, 6504.00.9015, 6504.00.9060, 6505.90.5090, 6505.90.6090, 6505.90.7090 and 6505.90.8090.
¹¹ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6505.90.1540 and 6505.90.2060 (Category 359-H).
¹² Category 659-S: only HTS numbers 6112.31.0010, 6112.31.0020, 6112.41.0010, 6112.41.0020, 6112.41.0030, 6112.41.0040, 6211.11.1010, 6211.11.1020, 6211.12.1010 and 6211.12.1020.
¹³ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010 (Category 659-C); 6502.00.9030, 6504.00.9015, 6504.00.9060, 6505.90.5090, 6505.90.6090, 6505.90.7090, 6505.90.8090 (Category 659-H); 6112.31.0010, 6112.31.0020, 6112.41.0010, 6112.41.0020, 6112.41.0030, 6112.41.0040, 6211.11.1010, 6211.11.1020, 6211.12.1010 and 6211.12.1020 (Category 659-S).
¹⁴ Category 347-W: only HTS numbers 6203.19.1020, 6203.19.9020, 6203.22.3020, 6203.22.3030, 6203.42.4005, 6203.42.4010, 6203.42.4015, 6203.42.4025, 6203.42.4035, 6203.42.4045, 6203.42.4050, 6203.42.4060, 6203.49.8020, 6210.40.9033, 6211.20.1520, 6211.20.3810 and 6211.32.0040; Category 348-W: only HTS numbers 6204.12.0030, 6204.19.8030, 6204.22.3040, 6204.22.3050, 6204.29.4034, 6204.62.3000, 6204.62.4005, 6204.62.4010, 6204.62.4020, 6204.62.4030, 6204.62.4040, 6204.62.4050, 6204.62.4055, 6204.62.4065, 6204.69.6010, 6204.69.9010, 6210.50.9060, 6211.20.1550, 6211.20.6810, 6211.42.0030 and 6217.90.9050.
¹⁵ Category 640-Y: only HTS numbers 6205.30.2010, 6205.30.2020, 6205.30.2050 and 6205.30.2060.
¹⁶ Category 647-W: only HTS numbers 6203.23.0060, 6203.23.0070, 6203.29.2030, 6203.29.2035, 6203.43.2500, 6203.43.3500, 6203.43.4010, 6203.43.4020, 6203.43.4030, 6203.43.4040, 6203.49.1500, 6203.49.2015, 6203.49.2030, 6203.49.2045, 6203.49.2060, 6203.49.8030, 6210.40.5030, 6211.20.1525, 6211.20.3820 and 6211.33.0030; Category 648-W: only HTS numbers 6204.23.0040, 6204.23.0045, 6204.29.2020, 6204.29.2025, 6204.29.4038, 6204.63.2000, 6204.63.3000, 6204.63.3510, 6204.63.3530, 6204.63.3532, 6204.63.3540, 6204.69.2510, 6204.69.2530, 6204.69.2540, 6204.69.2560, 6204.69.6030, 6204.69.9030, 6210.50.5035, 6211.20.1555, 6211.20.6820, 6211.43.0040 and 6217.90.9060.
¹⁷ Category 641-Y: only HTS numbers 6204.23.0050, 6204.29.2030, 6206.40.3010 and 6206.40.3025.

The limits set forth above are subject to adjustment pursuant to the current bilateral agreement concerning imports of textile and apparel products from Taiwan.

Products in the above categories exported during 2000 shall be charged to the applicable category limits for that year (see directive dated November 2, 1999) to the extent of any unfilled balances. In the event the limits established for that period have been exhausted by previous entries, such products shall be charged to the limits set forth in this directive.

These limits may be revised if Taiwan becomes a member of the World Trade Organization (WTO) and the WTO agreement is applied to Taiwan.

The conversion factors are as follows:

Category | Conversion factors (square meters equivalent/category unit)
300/301/607 | 8.5
333/334/335 | 33.75
352/652 | 11.3
359-C/659-C | 10.1
359-H/659-H | 11.5
369-L/670-L/870 | 3.8
633/634/635 | 34.1
638/639 | 12.5

In carrying out the above directions, the Commissioner of Customs should construe entry into the United States for consumption to include entry for consumption into the Commonwealth of Puerto Rico.

The Committee for the Implementation of Textile Agreements has determined that these actions fall within the foreign affairs exception to the rulemaking provisions of 5 U.S.C. 553(a)(1).

Sincerely,

Donald R. Foote,

Acting Chairman, Committee for the Implementation of Textile Agreements.

[FR Doc. 00-33362 Filed 12-28-00; 8:45 am]

BILLING CODE 3510-DR-F